EXPORT-IMPORT BANK OF THE UNITED STATES

Advisory Committee Meeting

ACTION: Notice of Open Meeting of the Advisory Committee of the Export-Import Bank of the United States (Ex-Im Bank).

Time and Place: Wednesday, May 29, 2013 from 11:00 a.m. to 3:00 p.m. The meeting will be held at the Export-Import Bank in Room 326, 811 Vermont Avenue NW., Washington, DC 20571.

SUMMARY: The Advisory Committee was established November 30, 1983, to advise the Export-Import Bank on its programs and to provide comments for inclusion in the reports of the Export-Import Bank of the United States to Congress.

Agenda: Agenda items include briefings and discussions on the following topics: Ex-Im Bank business review, Ex-Im Bank 2012 draft competitiveness report and Advisory Committee letter statement on the findings of the draft competitiveness report, and Ex-Im Bank economic impact policy update.

Public Participation: The meeting will be open to public participation, and the last 10 minutes will be set aside for oral questions or comments. Members of the public may also file written statement(s) before or after the meeting. If members of the public wish to attend, they must contact Niki Shepperd by 5pm on May 28, 2013. If any person wishes auxiliary aids (such as a sign language interpreter) or other special accommodations, please contact, by March 19, 2013, Niki Shepperd. Niki Shepperd can be reached at: 811 Vermont Avenue NW., Washington, DC 20571, Voice: (202) 565-3202 or TDD (202) 565-3377.

FOR FURTHER INFORMATION CONTACT: For further information, contact Niki Shepperd, 811 Vermont Ave. NW., Washington, DC 20571, (202) 565-3202.

Cristopolis A. Dieguez,
Program Specialist, Office of the General Counsel.

[FR Doc. 2013-11514 Filed 5-14-13; 8:45 am]

BILLING CODE 6690-01-P